U.S. INTERNATIONAL DEVELOPMENT FINANCE CORPORATION

Sunshine Act Meetings

FEDERAL REGISTER CITATION OF PREVIOUS ANNOUNCEMENT: 91 FR 2337, January 20, 2026.

PREVIOUSLY ANNOUNCED TIME AND DATE OF THE MEETING: Wednesday, January 21, 2026, at 10:00 a.m.

CHANGES IN THE MEETING: The Closed Meeting scheduled for Wednesday, January 21, 2026 at 10:00 a.m. has been cancelled.

CONTACT PERSON FOR MORE INFORMATION: For further information; please contact Heather Carroll, Corporate Secretary at corporatesecretary@dfc.gov.

Dated: January 20, 2026.
Lisa Wischkaemper,
Administrative Counsel, U.S. International Development Finance Corporation.

[FR Doc. 2026-01148 Filed 1-20-26; 11:15 am]

BILLING CODE 3210-01-P